ENVIRONMENTAL PROTECTION AGENCY

[EPA-HQ-ORD-2015-0765; FRL-9957-77-ORD]

Board of Scientific Counselors Executive Committee; Notification of Public Meeting and Public Comment

AGENCY: Environmental Protection Agency.

ACTION: Notification of public meeting and public comment.

SUMMARY: Pursuant to the Federal Advisory Committee Act, the U.S. Environmental Protection Agency hereby provides notice that the Board of Scientific Counselors (BOSC) Executive Committee (EC) will host a public meeting at the EPA's Main Campus Facility, 109 T.W. Alexander Drive, Research Triangle Park, North Carolina 27711. The meeting will be held on Wednesday, January 11, 2017 from 9:00 a.m. till 6:00 p.m., Thursday, January 12, 2017 from 8:30 a.m. till 5:00 p.m. and Friday, January 13, 2017 from 8:30 a.m. till 11:00 a.m. All times noted are Eastern Time and are approximate. The primary discussions will focus on the draft reports from the BOSC subcommittees: Air, Climate and Energy, Chemical Safety for Sustainability, Safe and Sustainable Water Resources, and Sustainable and Healthy Communities. The EC will also deliberate on the four ORD Cross-Cutting Research Roadmap Annual Reports: Environmental Justice, Climate Change, Children's Environmental Health, and Nitrogen and Co-pollutant. There will be a public comment period from 10:05 a.m. to 10:20 a.m. Wednesday, January 11, 2017. For information on registering to attend the meeting or to provide public comment, please see the SUPPLEMENTARY INFORMATION section.

DATES: The BOSC EC meeting will be held on Wednesday, January 11, 2017 from 9:00 a.m. till 6:00 p.m., Thursday, January 12, 2017 from 8:30 a.m. till 5:00 p.m. and Friday, January 13, 2017 from 8:30 a.m. till 11:00 a.m. All times noted are Eastern Time and are approximate.

FOR FURTHER INFORMATION CONTACT: Questions or correspondence concerning the meeting should be directed to Tom Tracy, Designated Federal Officer, Environmental Protection Agency, by mail at 1200 Pennsylvania Avenue NW., (MC 8104 R), Washington, DC 20460; by telephone at 202-564-6518; fax at 202-565-2911; or via email at tracy.tom@epa.gov.

SUPPLEMENTARY INFORMATION: The Charter of the BOSC states that the advisory committee shall provide independent advice to the Administrator on technical and management aspects of the ORD's research program. Additional information about the BOSC is available at: http://www2.epa.gov/bosc.

Registration: In order to attend the meeting, you must register at the following site: https://www.eventbrite.com/e/us-epa-2017-bosc-executive-committee-public-meeting-registration-30037268278. Once you have completed the online registration, you will be contacted and provided with the meeting information. In-person participant registration will close on January 3, 2017. Virtual participant registration will close on January 9, 2017.

Oral Statements: Members of the public who wish to provide oral comment during the meeting must preregister. Individuals or groups making remarks during the public comment period will be limited to five (5) minutes. To accommodate the number of people who want to address the BOSC EC, only one representative of a particular community, organization, or group will be allowed to speak.

Written Statements: Written comments for the public meeting must be received by Monday, January 9, 2017, and will be included in the materials distributed to the BOSC EC prior to the meeting. Written comments should be sent to Tom Tracy, Environmental Protection Agency, via email at tracy.tom@epa.gov or by mail to 1200 Pennsylvania Avenue NW., (MC 8104 R), Washington, DC 20460, or submitted through regulations.gov, Docket ID No. EPA-HQ-ORD-2015-0765. Members of the public should be aware that their personal contact information, if included in any written comments, may be posted online at regulations.gov.

Information about Services for Individuals with Disabilities: For information about access or services for individuals with disabilities, please contact Tom Tracy, at 202-564-6518 or via email at tracy.tom@epa.gov. To request special accommodations, please contact Tom Tracy no later than August 19, 2016, to give the Environmental Protection Agency sufficient time to process your request. All requests should be sent to the address, email, or phone number listed in the FOR FURTHER INFORMATION section above.

Dated: December 16, 2016.
Fred S. Hauchman
Director, Office of Science Policy.

[FR Doc. 2016-31825 Filed 12-30-16; 8:45 am]

BILLING CODE 6560-50-P